DEPARTMENT OF COMMERCE

International Trade Administration

[A-423-808, A-791-805, A-583-830]

Stainless Steel Plate in Coils From Belgium, South Africa, and Taiwan: Final Results of the Expedited Fourth Sunset Reviews of the Antidumping Duty Orders

AGENCY: Enforcement and Compliance, International Trade Administration, Department of Commerce.

SUMMARY: As a result of these expedited sunset reviews, the Department of Commerce (Commerce) finds that revocation of the antidumping duty orders on stainless steel plate in coils (SSPC) from Belgium, South Africa, and Taiwan would be likely to lead to continuation or recurrence of dumping as indicated in the “Final Results of Sunset Reviews” section of this notice.

DATES: Applicable April 4, 2022.

FOR FURTHER INFORMATION CONTACT: George McMahon or Carolyn Adie, AD/CVD Operations, Office VI, Enforcement and Compliance, International Trade Administration, U.S. Department of Commerce, 1401 Constitution Avenue NW, Washington, DC 20230; telephone: (202) 482-1167 or (202) 482-6250, respectively.

SUPPLEMENTARY INFORMATION:

Background

On December 1, 2021, Commerce published the notice of initiation of the fourth sunset reviews of the AD orders on SSPC from Belgium, South Africa, and Taiwan ¹ pursuant to section 751(c) of the Tariff Act of 1930, as amended (the Act).² In accordance with 19 CFR 351.218(d)(1)(i) and (ii), ATI Flat Rolled Products Holdings, LLC (ATI); North American Stainless (NAS); and Outokumpu Stainless USA, LLC (Outokumpu) (collectively, domestic interested parties) submitted notices of intent to participate in the sunset reviews of SSPC from Belgium and Taiwan, and ATI and Outokumpu submitted notices of intent to participate in the sunset review of SSPC from South Africa, within 15 days after the date of publication of the Initiation Notice.³ The domestic interested parties claimed interested party status under section 771(9)(C) of the Act, as domestic producers of SSPC in the United States.

¹ See Notice of Final Determination of Sales at Less Than Fair Value: Stainless Steel Plate in Coils from Belgium, 64 FR 15476 (March 31, 1999); Notice of Final Determination of Sales at Less Than Fair Value: Stainless Steel Plate in Coils from South Africa, 64 FR 15459 (March 31, 1999); and Notice of Final Determination of Sales at Less Than Fair Value: Stainless Steel Plate in Coils from Taiwan, 64 FR 15493 (March 31, 1999) (collectively, Orders).

² See Initiation of Five-Year (Sunset) Reviews, 86 FR 68220 (December 1, 2021) (Initiation Notice).

³ See ATI and NAS's Letter, “Five-Year (“Sunset”) Review of the Antidumping Duty Order on Stainless Steel Plate in Coils from Belgium—Domestic Interested Parties' Notice of Intent to Participate,” dated December 15, 2021; see also Outokumpu's Letter, “Five-Year (“Sunset”) Review of the Antidumping Order on Stainless Steel Plate in Coils from Belgium—Outokumpu's Notice of Intent to Participate,” dated December 15, 2021; ATI's Letter, “Five-Year (“Sunset”) Review of the Antidumping Duty Order on Stainless Steel Plate in Coils from South Africa—Domestic Interested Party's Notice of Intent to Participate,” dated December 15, 2021; Outokumpu's Letter, “Five-Year (“Sunset”) Review of the Antidumping Order on Stainless Steel Plate in Coils from South Africa—Outokumpu's Notice of Intent to Participate,” dated December 15, 2021; ATI and NAS's Letter, “Five-Year (“Sunset”) Review of the Antidumping Duty Order on Stainless Steel Plate in Coils from Taiwan—Domestic Interested Parties' Notice of Intent to Participate,” dated December 15, 2021; Outokumpu's Letter, “Five-Year (“Sunset”) Review of the Antidumping Order on Stainless Steel Plate in Coils from Taiwan—Outokumpu's Notice of Intent to Participate,” dated December 15, 2021.

Commerce received adequate substantive responses ⁴ to the Initiation Notice from the domestic interested parties within the 30-day period specified in 19 CFR 351.218(d)(3)(i).⁵ Commerce received no substantive responses from any respondent interested parties. On January 20, 2022, Commerce notified the U.S. International Trade Commission that it did not receive adequate substantive responses from the respondent interested parties.⁶ As a result, pursuant to section 751(c)(3)(B) of the Act and 19 CFR 351.218(e)(1)(ii)(C)(2), Commerce conducted expedited (120-day) sunset reviews of the Orders.

⁴ See Domestic Interested Parties' Letters, “Five-Year (“Sunset”) Review of the Antidumping Duty Order on Stainless Steel Plate in Coils from Belgium—Domestic Interested Parties' Substantive Response to Notice of Initiation,” dated January 3, 2022; “Five-Year (“Sunset”) Review of the Antidumping Duty Order on Stainless Steel Plate in Coils from South Africa—Domestic Interested Parties' Substantive Response to Notice of Initiation,” dated January 3, 2022; “Five-Year (“Sunset”) Review of the Antidumping Duty Order on Stainless Steel Plate in Coils from Taiwan—Domestic Interested Parties' Substantive Response to Notice of Initiation,” dated January 3, 2022.

⁵ Pursuant to 19 CFR 351.303(b)(1), “if the applicable due date falls on a non-business day, the Secretary will accept documents that are filed on the next business day.” As the deadline for the filing of substantive responses fell on Friday, December 31, 2021, a federal holiday, the deadline for filing substantive responses was January 3, 2022.

⁶ See Commerce's Letter, “Sunset Reviews Initiated on December 1, 2021,” dated January 20, 2022.

Scope of the Orders

The merchandise subject to the Orders is stainless steel plate in coils. A full description of the scope of the Orders is contained in the Issues and Decision Memorandum.⁷

⁷ See Memorandum, “Issues and Decision Memorandum for the Expedited Sunset Reviews of the Antidumping Duty Orders on Stainless Steel Plate in Coils from Belgium, South Africa, and Taiwan,” dated concurrently with, and hereby adopted by, this notice (Issues and Decision Memorandum).

Analysis of Comments Received

All issues raised in these reviews are addressed in the Issues and Decision Memorandum, including the likelihood of continuation or recurrence of dumping in the event of revocation of the Orders and the magnitude of the dumping margins likely to prevail if the Orders were revoked. A list of topics discussed in the Issues and Decision Memorandum is included as an appendix to this notice. Parties can find a complete discussion of all issues raised in this review and the corresponding recommendations in the Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Reviews

Pursuant to sections 751(c) and 752(c) of the Act, Commerce determines that revocation of the Orders would be likely to lead to continuation or recurrence of dumping, and the magnitude of the margins of dumping likely to prevail would be weighted-average margins up to the following percentages:

Country | Weighted- average margin (percent)
Belgium | 8.54
South Africa | 41.63
Taiwan | 10.20

Notification Regarding Administrative Protective Orders

This notice serves as the only reminder to parties subject to the administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(c), and 777(i)(1) of the Act and 19 CFR 351.221(c)(5)(ii).

Dated: March 25, 2022.
Lisa W. Wang,
Assistant Secretary for Enforcement and Compliance.

Appendix—List of Topics Discussed in the Issues and Decision Memorandum

I. Summary

II. Background

III. Scope of the Orders

IV. History of the Orders

V. Legal Framework

VI. Discussion of the Issues

VII. Final Results of Expedited Sunset Reviews

VIII. Recommendation

[FR Doc. 2022-06999 Filed 4-1-22; 8:45 am]

BILLING CODE 3510-DS-P